NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a meeting of the Advisory Committee on the Medical Uses of Isotopes (ACMUI) on December 15, 2021 to discuss the NRC staff's draft Alpha Tau Alpha Dart™ Manual Brachytherapy Licensing Guidance and the ACMUI Subcommittee on Alpha Dart draft report on the proposed draft licensing guidance; the NRC staff's draft additional licensing considerations memo for CivaTech Oncology Inc.'s CivaDerm™ and the ACMUI Subcommittee ACMUI Subcommittee on Civaderm draft report on the proposed draft memo; the NRC staff's draft revision of Regulatory Guide 8.39, “Release of Patients Administered Radioactive Material and the ACMUI Subcommittee on Regulatory Guide 8.39, “Release of Patients Administered Radioactive Material” draft report on the proposed draft revision of the regulatory guide. The meeting agenda is subject to change. The current agenda and any updates will be available on the ACMUI's Meetings and Related Documents web page at https://www.nrc.gov/reading-rm/doc-collections/acmui/meetings/2021.html or by emailing Mr. Don Lowman at the contact information below.

DATES: The teleconference meeting will be held on Wednesday, December 15, 2021, from 2:00 p.m. to 4:00 p.m. Eastern Standard Time.

ADDRESSES:

Date | Webinar information (Microsoft Teams)
December 15, 2021 | Link: https://teams.microsoft.com/l/meetup-join/19%3ameeting_ODUxNGM4MjgtNjEzMi00ZjM5LTliZDYtODliYTgyODQ1ZTE1%40thread.v2/0?context=%7b%22Tid%22%3a%22e8d01475-c3b5-436a-a065-5def4c64f52e%22%2c%22Oid%22%3a%2246306069-534e-4ca8-95c1-728fcf94561d%22%7d. Call in number (audio only): +1 301-576-2978 (Silver Spring, MD, U.S.) Phone Conference ID: 694 987 19#.

Public Participation: The meeting will be held as a webinar using Microsoft Teams. Any member of the public who wishes to participate in any open sessions of this meeting should click on the link above to join the meeting. It is recommended that attendees should login ten minutes prior to ensure they can properly connect to the meeting. Members of the public should also monitor the NRC's Public Meeting Schedule at https://www.nrc.gov/pmns/mtg for any meeting updates. If there are any questions regarding the meeting, persons should contact Mr. Lowman using the information below.

FOR FURTHER INFORMATION CONTACT: Mr. Don Lowman, email: Donald.Lowman@nrc.gov, telephone: 301-415-5452.

SUPPLEMENTARY INFORMATION:

Conduct of the Meeting

Darlene F. Metter, M.D. will chair the meeting. Dr. Metter will conduct the meeting in a manner that will facilitate the orderly conduct of business. The following procedures apply to public participation in the meeting:

1. Persons who wish to provide a written statement should submit an electronic copy to Mr. Lowman using the contact information listed above. All submittals must be received by the close of business on December 10, 2021, three business days before the meeting, and must pertain to the topics on the agenda for the meeting.

2. Questions and comments from members of the public will be permitted during the meeting, at the discretion of the ACMUI Chairman.

3. The draft transcript and meeting summary will be available on ACMUI's website https://www.nrc.gov/reading-rm/doc-collections/acmui/meetings/2021.html on or about January 21, 2022.

4. Persons who require special services, such as those for the hearing impaired, should notify Mr. Lowman of their planned participation.

This meeting will be held in accordance with the Atomic Energy Act of 1954, as amended (primarily Section 161a); the Federal Advisory Committee Act (5 U.S.C. App); and the Commission's regulations in title 10 of the Code of Federal Regulations, Part 7.

Dated at Rockville, Maryland, this 24th day of November, 2021.
For the U.S. Nuclear Regulatory Commission.
Russell E. Chazell,
Federal Advisory Committee Management Officer.

[FR Doc. 2021-26111 Filed 11-30-21; 8:45 am]

BILLING CODE 7590-01-P